DEPARTMENT OF HEALTH AND HUMAN SERVICES

Centers for Disease Control and Prevention

[30Day-19-18ATK]

Agency Forms Undergoing Paperwork Reduction Act Review

In accordance with the Paperwork Reduction Act of 1995, the Centers for Disease Control and Prevention (CDC) has submitted the information collection request titled Understanding multi-sectoral collaboration for strengthening public health capacities in Ethiopia to the Office of Management and Budget (OMB) for review and approval. CDC previously published a “Proposed Data Collection Submitted for Public Comment and Recommendations” notice on August 23, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Understanding multi-sectoral collaboration for strengthening public health capacities in Ethiopia—New—Center for Preparedness and Response (CPR), Centers for Disease Control and Prevention (CDC).

Background and Brief Description

Countries with poor public health infrastructure are more vulnerable to adverse health outcomes caused by disease outbreaks, natural disasters, and other public health events. The 2013 Ebola outbreak in West Africa highlighted the shortcomings of infrastructure and preparedness plans in the region, and prompted Ministries of Health in affected countries to reexamine capabilities and identify approaches for strengthening them. More recently, the spread of the Zika virus in 2015 through more than 20 countries in the Americas demonstrated that prioritizing efforts to strengthen public health systems and capacities is imperative to mitigating the impact of public health events and improving global health security.

Capacities refer to the abilities and resources of countries to identify and address problems, and carry out functions for public health. Public health emergency preparedness (PHEP) related capacities focus acutely on the resources and infrastructure required for communities and countries to effectively respond to incidents. Zoonotic disease (ZD) related capacities center on minimizing the spread of diseases from animals to humans in domestic, agricultural and wildlife settings.

PHEP and ZD are regarded as cross-cutting technical areas of public health, spanning numerous fields of practice and knowledge necessary to successfully mitigate the impacts of public health events. As a result, multi-sectoral collaboration—a cornerstone of many public health initiatives and programs—is a prominent feature of efforts and plans to strengthen PHEP and ZD capacities. While the importance of multi-sectoral collaboration for health strategies is widely recognized by global health experts and leaders, the evidence base on demonstrated benefits and advantages in public health capacity building is limited. Some research has been carried out to understand aspects of public health capacity strengthening efforts and their impact on global health security; however, it often focuses on high-income countries, such as the United States (US). More research is needed, particularly in low- and middle-income country settings, to understand how collaboration occurs across sectors to implement efforts to strengthen PHEP and ZD capacities and systems, and to gain a deeper understanding of the perspectives of partners involved in the collaboration.

The purpose of the proposed research is to explore how multi-sectoral collaboration occurs for PHEP and ZD related activities implemented under the Global Health Security Agenda (GHSA). The research will employ a multiple-case study design in Ethiopia, focusing on the GHSA technical areas of PHEP and ZD as the cases. The study seeks to understand the landscape of stakeholders engaged in PHEP and ZD related capacity development, and their perspectives on one another's roles and contributions to efforts. This research will also examine stakeholder perceptions on barriers and facilitators to collaboration under GHSA, overall and in each technical area via in-depth interviews. Finally, this study will utilize an adapted questionnaire that measures collaboration across five key domains to foster dialogue between partners on the strength of multi-sectoral collaboration in Ethiopia for GHSA related ZD and PHEP activities. Participants will be able to provide feedback to these questionnaires through a workshop. Research findings will be compared across the two technical areas to understand similarities and differences in stakeholder environments and partner perspectives on collaboration under GHSA; they can also be used to identify opportunities to amplify successes and overcome challenges for stakeholders to collaborate across sectors—in Ethiopia and other countries—to achieve ZD and PHEP goals under GHSA. CDC will disseminate information and findings through presentations, publications, and summary reports to stakeholders and interested members of the public. This research can enrich understanding among stakeholders of one another's perspectives on collaborative efforts, and encourage further dialogue on how to best facilitate multi-sectoral collaboration for broad global agendas such as GHSA, and improved health outcomes overall. CDC is requesting a two year approval for this information collection. Information collection activities will begin approximately one month after OMB approval. The total annual estimated burden to respondents is 320 hours. There is no cost to respondents other than their time.

Estimated Annualized Burden Hours
Type of respondents | Form name | Number of respondents | Number of responses per respondent | Average burden per response (in hours)
Emergency Management Directors | In-depth interviews | 80 | 1 | 1
Emergency Management Directors | Questionnaire | 80 | 1 | 1
Emergency Management Directors | Questionnaire Feedback | 40 | 1 | 4

Jeffrey M. Zirger,
Acting Lead, Information Collection Review Office, Office of Scientific Integrity, Office of Science, Centers for Disease Control and Prevention.

[FR Doc. 2018-25750 Filed 11-26-18; 8:45 am]

BILLING CODE 4163-18-P